DEPARTMENT OF HOMELAND SECURITY

Coast Guard

[Docket No. USCG-2017-0020]

Merchant Marine Personnel Advisory Committee

AGENCY: Coast Guard, Department of Homeland Security.

ACTION: Notice of Federal Advisory Committee Meeting.

SUMMARY: The Merchant Marine Personnel Advisory Committee and its working groups will meet to discuss various issues related to the training and fitness of merchant marine personnel. The meetings will be open to the public.

DATES: The Merchant Marine Personnel Advisory Committee and its working groups are scheduled to meet on Wednesday, March 22, 2017, from 8 a.m. until 5:30 p.m., and the full Committee is scheduled to meet on Thursday, March 23, 2017, from 8 a.m. until 5:30 p.m. Please note that these meetings may adjourn early if the Committee has completed its business.

ADDRESSES: The meetings will be held at The U.S. Coast Guard Headquarters, Room 6I10-01-C, 2703 Martin Luther King Jr. Ave. SE., Stop 7509, Washington, DC 20593-7509 (https://www.uscg.mil/baseNCR/pages/visitor_trans.asp).

Attendees at the U.S. Coast Guard Headquarters who are U.S. citizens will be required to pre-register no later than 5 p.m. on March 14, 2017, to be admitted to the meeting. This pre-registration should include your name, telephone number, and company or group with which you are affiliated. Non-US citizens will be required to pre-register no later than 5 p.m. on March 01, 2017, to be admitted to the meeting. This pre-registration should include name, country of citizenship, passport and expiration date, or diplomatic Identification number and expiration date, and the company or group with which you are affiliated. All attendees will be required to provide a government-issued picture identification card in order to gain admittance to the building. To pre-register, contact Lieutenant Junior Grade James Fortin at 202-372-1128 or james.l.fortin@uscg.mil. For information on facilities or services for individuals with disabilities or to request special assistance at the meeting, contact the Alternate Designated Federal Officer as soon as possible using the contact information provided in the FOR FURTHER INFORMATION CONTACT section of this notice.

To facilitate public participation, we are inviting public comment on the issues to be considered by the Committee as listed in the “Agenda” section below. Written comments for distribution to Committee members must be submitted no later than March 01, 2017, if you want Committee members to review your comments before the meeting. Written comments may be submitted using the Federal eRulemaking Portal at http://www.regulations.gov. For assistance with technical difficulties, contact the individual in the FOR FURTHER INFORMATION CONTACT section of this document.

Instructions: You must include “Department of Homeland Security” and docket number USCG-2017-0020 in all written comments. Comments received will be posted without alteration at http://www.regulations.gov, including any personal information provided. You may review a Privacy Act notice regarding the Federal Docket Management System in the March 24, 2005, issue of the Federal Register (70 FR 15086).

Docket Search: For access to the docket to read documents or comments related to this notice, go to http://www.regulations.gov, type USCG-2017-0020 in the “Search” box, press Enter, and then click on the item you wish to view.

FOR FURTHER INFORMATION CONTACT: Lieutenant Junior Grade James Fortin, Alternate Designated Federal Officer of the Merchant Marine Personnel Advisory Committee, 2703 Martin Luther King Jr. Ave. SE., Stop 7509, Washington, DC 20593-7509, telephone 202-372-1128, fax 202-372-8385 or james.l.fortin@uscg.mil.

SUPPLEMENTARY INFORMATION: Notice of this meeting is given pursuant to the Federal Advisory Committee Act, Title 5 United States Code Appendix.

The Merchant Marine Personnel Advisory Committee was established under authority of section 310 of the Howard Coble Coast Guard and Maritime Transportation Act of 2014, codified at Title 46, United States Code, section 8108, and chartered under the provisions of the Federal Advisory Committee Act (Title 5, United States Code, Appendix). The Committee acts solely in an advisory capacity to the Secretary of the Department of Homeland Security through the Commandant of the Coast Guard on matters relating to personnel in the United States merchant marine, including training, qualifications, certification, documentation, and fitness standards and other matters as assigned by the Commandant. The Committee shall also review and comment on proposed Coast Guard regulations and policies relating to personnel in the United States merchant marine, including training, qualifications, certification, documentation, and fitness standards; may be given special assignments by the Secretary and may conduct studies, inquiries, workshops, and fact finding in consultation with individuals and groups in the private sector and with State or local governments; and shall advise, consult with, and make recommendations reflecting its independent judgment to the Secretary.

Agenda

DAY 1

The agenda for the March 22, 2017 meeting is as follows:

(1) The full Committee will meet briefly to discuss the working groups' business/task statements, which are listed under paragraph 3(a)-(g) below.

(2) Public comment period.

(3) Working groups will separately address the following task statements which are available for viewing at https://homeport.uscg.mil/merpac:

(a) Task Statement 58, Communication between external stakeholders and the mariner credentialing program, as it relates to the National Maritime Center;

(b) Task Statement 87, Review of policy documents providing guidance on the implementation of the December 24, 2013 International Convention on Standards of Training, Certification and Watchkeeping for Seafarers rulemaking;

(c) Task Statement 89, Review and update of the International Maritime Organization's Maritime Safety Committee Circular MSC.1014, “Guidelines on Fatigue Mitigation and Management”;

(d) Task Statement 94, Review the Merchant Marine Personnel Advisory Committee recommendations with a view to evaluating their current relevance;

(e) Task Statement 95, Recommendations Regarding Training Requirements for Officer Endorsements for Master or Mate (Pilot) of Towing Vessels, except Assistance Towing and Apprentice Mate (Steersman) of Towing Vessels, in Inland Service;

(f) Task Statement 96, Review and comment on the course and program approval requirements including 46 CFR 10.402, 10.403, 10.407 and NVIC 03-14 guidelines for approval of training courses and programs;

(g) Task Statement 97, Develop and recommend the specifications for a Designated Examiner, Qualified Assessor and Designated Medical Examiner online verification tool so that the public, mariners and shipping companies, can verify the Designated Examiner, Quality Assessor and Designated Medical Examiners for Coast Guard approval of individuals to perform the functions of those positions.

(4) Reports of working groups. At the end of the day, the working groups will report to the full Committee on what was accomplished in their meetings. The full Committee will not take action on these reports on this date. Any official action taken as a result of these working group meetings will be taken on day two of the meeting.

(5) Public comment period.

(6) Adjournment of meeting.

DAY 2

The agenda for the March 23, 2017, full Committee meeting is as follows:

(1) Introduction.

(2) Swear in newly appointed Committee members.

(3) Remarks from Coast Guard Leadership.

(4) Designated Federal Officer announcements.

(5) Roll call of Committee members and determination of a quorum.

(6) Reports from the following working groups:

(a) Task Statement 58, Communication between external stakeholders and the mariner credentialing program, as it relates to the National Maritime Center;

(b) Task Statement 87, Review of policy documents providing guidance on the implementation of the December 24, 2013 International Convention on Standards of Training, Certification and Watchkeeping for Seafarers rulemaking;

(c) Task Statement 89, Review and update of International Maritime Organization's Maritime Safety Committee Circular MSC/Circ.1014, “Guidelines on Fatigue Mitigation and Management”;

(d) Task Statement 94, Review the Merchant Marine Personnel Advisory Committee recommendations with a view to evaluating their current relevance;

(e) Task Statement 95, Review Firefighting Training Requirements for Officer Endorsements for Master or Mate (Pilot) of Towing Vessels, except Assistance Towing and Apprentice Mate (Steersman) of Towing Vessels, in Inland Service;

(f) Task Statement 96, Review and comment on the course and program approval requirements including 46 CFR 10.402, 10.403, 10.407 and NVIC 03-14 guidelines for approval of training courses and programs;

(g) Task Statement 97, Develop and recommend the specifications for a Designated Examiner, Qualified Assessor and Designated Medical Examiner online verification tool so that the public, mariners and shipping companies can verify the Designated Examiner, Qualified Assessor and Designated Medical Examiners for Coast Guard approval of individuals to perform the functions of those positions;

(7) Other items for discussion:

(a) Report on the Implementation of the 2010 Amendments to the International Convention on Standards of Training, Certification and Watchkeeping;

(b) Report on National Maritime Center activities from the National Maritime Center Commanding Officer, such as the net processing time it takes for mariners to receive their credentials after application submittal;

(c) Report on Mariner Credentialing Program Policy Division activities, such as its current initiatives and projects;

(d) Report on International Maritime Organization/International Labor Organization issues related to the merchant marine industry; and

(e) Briefings about on-going Coast Guard projects related to personnel in the U.S. merchant marine.

(8) New Business

(a) New task statement—“Utilizing Military Education, Training and Assessment for Standards for Training, Certification, and Watchkeeping and National Certifications”; and

(b) New task statement—“Person in Charge of Inland Towing Vessels”.

(9) Public comment period.

(10) Discussion of working group recommendations. The Committee will review the information presented on each issue, deliberate on any recommendations presented by the working groups, and approve/formulate recommendations. Official action on these recommendations may be taken on this date.

(11) Closing remarks/plans for next meeting.

(12) Adjournment of meeting.

A public comment period will be held during each Working Group and full Committee meeting concerning matters being discussed.

A copy of all meeting documentation will be available at https://homeport.uscg.mil/merpac no later than March 14, 2017. Alternatively, you may contact Lieutenant Junior Grade James Fortin as noted in the FOR FURTHER INFORMATION section above.

Public comments will be limited to three minutes per speaker. Please note that the public comment periods will end following the last call for comments. Please contact Lieutenant Junior Grade James Fortin, listed in the FOR FURTHER INFORMATION CONTACT section, to register as a speaker.

Please note that the meeting may adjourn early if the work is completed.

Dated: February 1, 2017.
J.G. Lantz,
Director of Commercial Regulations and Standards.

[FR Doc. 2017-02449 Filed 2-6-17; 8:45 am]

BILLING CODE 9110-04-P